DEPARTMENT OF ENERGY

[Docket No. RP98-40-000]

Panhandle Eastern Pipeline Company; Notice of Informal Settlement Conference

July 24, 2000.

On July 31, 2000, an informal settlement conference in the above-docketed proceeding respecting the Kansas ad valorem issues will be held at the offices of Shook, Hardy & Bacon, 1 Kansas City Place, 1200 Main Street, Kansas City, Missouri. The conference will begin at 10:45 a.m. in Conference Room 31A. All interested parties in the above docket are requested to attend the informal settlement conference. If a party has any questions respecting the conference, please call Richard Miles, the Director of the Dispute Resolution Service. His telephone number is 1 877 FERC ADR (337-2237) or 202-208-0702 and his e-mail address is richard.miles@ferc.fed.us.

David P. Boergers,
Secretary.

[FR Doc. 00-19060 Filed 7-27-00; 8:45 am]

BILLING CODE 6717-01-M